DEPARTMENT OF DEFENSE

Office of the Secretary

[Docket ID: DoD-2012-OS-0107]

Privacy Act of 1974; System of Records

AGENCY: Office of the Secretary of Defense, DoD.

ACTION: Notice to alter a system of records.

SUMMARY: The Office of the Secretary of Defense proposes to alter a system of records in its inventory of record systems subject to the Privacy Act of 1974 (5 U.S.C. 552a), as amended. The blanket (k)(1) exemption applies to this system of records to accurately describe the basis for exempting disclosure of classified information that are or may be contained in the records.

DATES: This proposed action will be effective on October 15, 2012 unless comments are received, which result in a contrary determination. Comments will be accepted on or before October 15, 2012.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on July 19, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 10, 2012.
Aaron Siegel,
Alternate OSD Federal Register Liaison Officer, Department of Defense.

DWHS E06

System name:

Enterprise Correspondence Control System (ECCS) (August 19, 2009, 74 FR 41870).

Changes:

* * * * *

System location:

Delete entry and replace with “Correspondence Management Division, Executive Services Directorate, Washington Headquarters Services, Room 3C843, 1155 Defense Pentagon, Washington, DC 20301-1155.”

Categories of individuals covered by the system:

Delete entry and replace with “Individuals who either initiated, or are the subject of communications with the Office of the Secretary of Defense.”

Categories of records in the system:

Delete entry and replace with “Name (last name and first name initial) and contact information (mailing address, telephone number, fax number, email address) of individuals writing to the Secretary of Defense. This may include inquiries and other communications pertaining to any matter under the cognizance of the Secretary of Defense. Records may include complaints, appeals, grievances, investigations, alleged improprieties, personnel actions, medical reports, intelligence, and related matters associated with the mission and business activities of the department. They may be either specific or general in nature and may include such personal information as an individual's name, Social Security Number (SSN), date and place of birth, description of events or incidents of a sensitive or privileged nature, commendatory or unfavorable data.

Staff packages pertaining to individuals. Examples of such packages include: Assignment requests, awards, nominations, promotions, and presidential support letters; condolence letters, retirement letters and letters of appreciation; Senior Executive Service letters and pay adjustments, appointment letters, certificates, Secretary of Defense letters of appreciation, travel requests, military airlift requests and other related documents.”

Authority for maintenance of the system:

Delete entry and replace with “10 U.S.C. 113, Secretary of Defense; 44 U.S.C. Chapter 31, Records Management by Federal Agencies; DoD Directive 5105.53, Director of Administration and Management (DA&M); DoD Directive 5110.4, Washington Headquarters Services (WHS); and E.O. 9397 (SSN), as amended.”

Purpose(s):

Delete entry and replace with “Information is collected on behalf of the Secretary of Defense to support the functions of the Department of Defense and maintain a record of actions taken and responses to the President, White House staff, other Cabinet officials, Congress, state and local officials, corporate officials, members of the Department of Defense and the public.”

* * * * *

System manager(s) and address:

Delete entry and replace with “Chief, Correspondence Management Division, Executive Services Directorate, Washington Headquarters Services, 1155 Defense Pentagon, Washington, DC 20301-1155.”

Notification procedure:

Delete entry and replace with “Individuals seeking to determine whether information about themselves is contained in this system should address written inquiries to the Chief, Correspondence Management Division, Executive Services Directorate, Washington Headquarters Services, Room 3C843, 1155 Defense Pentagon, Washington, DC 20301-1155.

The requests should contain the individual's last name, first name initial, subject, and document date.”

* * * * *

[FR Doc. 2012-22550 Filed 9-12-12; 8:45 am]

BILLING CODE 5001-06-P